ENVIRONMENTAL PROTECTION AGENCY

40 CFR Parts 52 and 70

[EPA-R07-OAR-2016-0555; FRL-9953-60-Region 7]

Approval of Nebraska's Air Quality Implementation Plans; Nebraska Air Quality Regulations and State Operating Permit Programs

AGENCY: Environmental Protection Agency (EPA).

ACTION: Proposed rule.

SUMMARY: The Environmental Protection Agency (EPA) proposes to approve the State Implementation Plan (SIP) revisions submitted by the State of Nebraska. This proposed action will amend the SIP to include revisions to title 129 of the Nebraska Air Quality Regulations, chapter 5, “Operating Permits—When Required”; chapter 9, “General Operating Permits for Class I and II Sources”; chapter 22, “Incinerators; Emission Standards”; Chapter 30, “Open Fires”; and chapter 34 “Emission Sources; Testing; Monitoring”. These revisions were requested by the Nebraska Department of Environmental Quality (NDEQ) in three submittals, submitted on May 1, 2003, November 8, 2011, and July 14, 2014. The May 1, 2003, submittal revised chapters 5 and 9, to address changes in regard to the permits-by-rule provisions of Title 129. The November 8, 2011, submittal allows for the issuance of multiple operating permits to major sources through revisions to chapter 5. In addition, revisions to chapters 22 and 30 encourage the use of air curtain incinerators over open burning; and changes to chapter 34 clarify the authority of NDEQ to order emission sources to do testing when NDEQ deems it necessary. The July 14, 2014, submittal further revises chapter 34, by updating the reference to allowable test methods for evaluating solid waste, changing the amount of time allowed to submit test results, and allowing NDEQ to approve a request for testing with less than 30 days notification. For additional information on the revisions to chapters 5, 9, 22, 30 and 34 see the detailed discussion table in the docket.

DATES: Comments must be received by November 7, 2016.

ADDRESSES: Submit your comments, identified by Docket ID No. EPA-R07-OAR-2016-0555, to http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Greg Crable, Environmental Protection Agency, Air Planning and Development Branch, 11201 Renner Boulevard, Lenexa, Kansas 66219 at 913-551-7391, or by email at crable.gregory@epa.gov.

SUPPLEMENTARY INFORMATION: This document proposes to take action on the State Implementation Plan (SIP) revisions submitted by the State of Nebraska. We have published a direct final rule approving the State's SIP revision(s) in the “Rules and Regulations” section of this Federal Register, because we view this as a noncontroversial action and anticipate no relevant adverse comment. We have explained our reasons for this action in the preamble to the direct final rule. If we receive no adverse comment, we will not take further action on this proposed rule. If we receive adverse comment, we will withdraw the direct final rule and it will not take effect. We would address all public comments in any subsequent final rule based on this proposed rule. We do not intend to institute a second comment period on this action. Any parties interested in commenting must do so at this time. For further information, please see the information provided in the ADDRESSES section of this document.

List of Subjects

40 CFR Part 52

Environmental protection, Air pollution control, Carbon monoxide, Incorporation by reference, Intergovernmental relations, Lead, Nitrogen dioxide, Ozone, Particulate matter, Reporting and recordkeeping requirements, Sulfur dioxide, Volatile organic compounds.

40 CFR Part 70

Environmental protection, Administrative practice and procedure, Air pollution control, Intergovernmental relations, Operating permits, Reporting and recordkeeping requirements.

Dated: September 27, 2016.
Mike Brincks,
Acting Regional Administrator, Region 7.

[FR Doc. 2016-24087 Filed 10-6-16; 8:45 am]

BILLING CODE 6560-50-P